DEPARTMENT OF AGRICULTURE

Submission for OMB Review; Comment Request

April 19, 2021.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 24, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Emergency Conservation Program and Biomass Crop Assistance Program.

OMB Control Number: 0560-0082.

Summary of Collection: The Farm Service Agency (FSA), in cooperation with the Natural Resources Conservation Service, the Forest Service, and other agencies and organizations, provides eligible producers and landowners cost-share incentives and technical assistance through several conservation and environmental programs to help farmers, ranchers, and other eligible landowners and operators conserve soil, improve water quality, develop forests, and rehabilitate farmland severely damaged by natural disasters authorized under the Agricultural Credit Act of 1978 (16 U.S.C. 2201-2205). FSA provides emergency funds for sharing with agricultural producers the cost of rehabilitating farmland damaged by natural disaster, and for carrying out emergency water conservation measures during periods of severe drought. FSA is also managing the Biomass Crop Assistance Program (BCAP) authorized by Section 9010 of the Agricultural Act of 2014 (Pub. L. 113-79), which amends Title 1X of the Food, Conservation and Energy Act of 2008. BCAP regulations outlined the legislations parameters, program definitions and process for: (1) Establishing BCAP project areas; (2) Matching payment opportunity for eligible material owners and qualifying biomass conversion facilities; (3) Contracting acreage for producers in BCAP project areas; and (4) Establishment and annual production payments for producers in BCAP projects areas.

Need and use of the Information: FSA will collect information using several forms. The collected information will be used to determine if the person, land, and practices are eligible for participation in the respective program and to receive cost-share assistance. Also, Information collection from eligible biomass owners, biomass conversion facilities, and producers meeting the requirements for matching payments, annual production payment assistance, establishment payments and BCAP project area designation is necessary in order to ensure the financial accountability needed to operate and administer the BCAP. Without the information, FSA will not be able to make eligibility determinations and compute payments in a timely manner.

Description of Respondents: Farms; Business or other for profit.

Number of Respondents: 140,000.

Frequency of Responses: Reporting: Annually.

Total Burden Hours: 49,385.

Ruth Brown,
Departmental Information Collection Clearance Officer.

[FR Doc. 2021-08339 Filed 4-21-21; 8:45 am]

BILLING CODE 3410-05-P